DEPARTMENT OF HEALTH AND HUMAN SERVICES

National Institutes of Health

National Institute on Drug Abuse; Amended Notice of Meeting

Notice is hereby given of a change in the meeting of the Treatment Research Subcommittee, February 28, 2001, 10 a.m. to February 28, 2001, 6 p.m., Embassy Suites at the Chevy Chase Pavilion, 4300 Military Road, N.W., Washington, DC, 20015 which was published in the Federal Register on January 26, 2001, Volume 66 FR 7923-24.

The date of this meeting has been changed to February 28-March 1, 2001. The Committee will convene from 10 a.m. to 6 p.m. on February 28, and from 8:30 a.m. to 1 p.m. on March 1. The meeting is closed to the public.

Dated: February 6, 2001.
LaVerne Y. Stringfield,
Director, Office of Federal Advisory Committee Policy.

[FR Doc. 01-3601 Filed 2-12-01; 8:45 am]

BILLING CODE 4140-01-M